DEPARTMENT OF LABOR

Employment and Training Administration

[TA-W-54,674]

Major League, Inc., Mount Airy, NC; Dismissal of Application for Reconsideration

Pursuant to 29 CFR 90.18(C) an application for administrative reconsideration was filed with the Director of the Division of Trade Adjustment Assistance for workers at Major League, Inc., Mount Airy, North Carolina. The application contained no new substantial information which would bear importantly on the Department's determination. Therefore, dismissal of the application was issued.

TA-W-54,674; Major League, Inc., Mount Airy, North Carolina (July 21, 2004)

Signed at Washington, DC, this 26th day of July 2004.
Timothy Sullivan,
Director, Division of Trade Adjustment Assistance.

[FR Doc. 04-17722 Filed 8-3-04; 8:45 am]

BILLING CODE 4510-30-P